Proclamation 9860 of April 5, 2019

National Volunteer Week, 2019

By the President of the United States of America

A Proclamation

During National Volunteer Week, we acknowledge the many Americans who generously give their time and talents to help improve the lives of others. Their acts of kindness help build a better and brighter future, and remind us that we all have a role to play in making our communities safer, healthier, and stronger.

America's strength has always come from the acts of ordinary citizens. From the earliest days of our Nation, volunteers have stepped forward to serve, helping us survive our greatest challenges and achieve our greatest triumphs. Every day, through their volunteerism, millions of our citizens renew this ethic of service, which is fundamental to our Nation's character and exemplifies the resolve of the American people.

In 2017, the number of Americans volunteering hit a record high, and their contributions were worth an estimated $167 billion in economic value. These outstanding individuals keep students on track to graduate, care for seniors, aid our veterans, and help those affected by natural disasters, war, and disease overseas. Last year, we again witnessed the servant leadership of thousands of Americans who volunteered to help their fellow citizens following natural disasters around the country. After devastating hurricanes, flooding, tornadoes, and wildfires, countless Americans answered the call to help others rebuild and recover. Even in times of great uncertainty and despair, their compassion helped renew the hope of so many in need.

Americans' commitment to serving others has always contributed to the success and prosperity of our Nation. This week, we pay tribute to our country's volunteers and recognize every American who takes time to help others. We celebrate the spirit and generosity that drive our citizens to care for others and serve a cause greater than self.

NOW, THEREFORE, I, DONALD J. TRUMP, President of the United States of America, by virtue of the authority vested in me by the Constitution and the laws of the United States, do hereby proclaim April 7 through April 13, 2019, as National Volunteer Week. I call upon all Americans to observe this week by volunteering in service projects across our country and pledging to make service a part of their daily lives.

IN WITNESS WHEREOF, I have hereunto set my hand this fifth day of April, in the year of our Lord two thousand nineteen, and of the Independence of the United States of America the two hundred and forty-third.

[FR Doc. 2019-07261

4-9-19; 11:15 am]

Billing code 3295-F9-P